DEPARTMENT OF ENERGY

Federal Energy Regulatory Commission

18 CFR Part 284

[Docket No. RM98-10-000]

Regulation of Short-Term Natural Gas Transportation Services, and Regulation of Interstate Natural Gas Transportation Services

June 29, 2000.

AGENCY: Federal Energy Regulatory Commission.

ACTION: Final Rule, Notice of Availability of Instruction Manual for Electronic Filing of the Index of Customers.

SUMMARY: On February 9, 2000, the Federal Energy Regulatory Commission issued a final rule in this proceeding adding new information requirements to the Index of Customers to be filed by natural gas companies with the Commission, and posted on the companies' Internet web sites on the first business day of each calendar quarter. This notice announces the availability of the revised Instruction Manual for Electronic Filing of the Index of Customers in the Commission's Public Reference Room and electronically on the Commission's Internet web page.

DATES: Natural gas companies must implement the new reporting requirements by September 1, 2000.

ADDRESSES: Federal Energy Regulatory Commission, 888 First Street, NE., Washington, DC 20426.

FOR FURTHER INFORMATION CONTACT:

Michael Goldenberg, Office of the General Counsel, Federal Energy Regulatory Commission, 888 First Street, NE., Washington, DC 20426, (202) 208-2294.

Craig Hill, Office of Markets, Tariffs and Rates, Federal Energy Regulatory Commission, 888 First Street, NE., Washington, DC 20426, (202) 208-0621.

SUPPLEMENTARY INFORMATION: On February 9, 2000, the Federal Energy Regulatory Commission (Commission) issued Order No. 637 amending its regulations in response to the development of more competitive markets for natural gas and the transportation of natural gas.¹ These changes included expanding reporting requirements for the Index of Customers in order to provide shippers with a more useful picture of the structure of the market for decisionmaking and monitoring purposes.

¹ 65 FR 10156 (Feb. 25, 2000); III FERC Stats. & Regs. ¶ 31,091 (Feb. 9, 2000).

The Commission added the following new reporting requirements to the Index of Customers data collection: the receipt and delivery points held under the contract and the zones or segments in which the capacity is held; the common transaction point codes; the contract number; a shipper identification number, such as DUNS; an indication whether the contract includes negotiated rates; the names of any agents or asset managers that control capacity in a pipeline rate zone; and any affiliate relationship between the pipeline and the holder of capacity.²

² 18 CFR 284.13(c).

The Commission issues an Instruction Manual for Electronic Filing of the Index of Customers explaining how pipelines are to report Index of Customer data. This Manual has been revised to incorporate the new reporting requirements.

The revised Instruction Manual for Electronic Filing of the Index of Customers is attached to this notice as an Appendix.³ The revised manual can be found at the following electronic address: http://www.ferc.fed.us/public/elec req.htm. The manual also is available in the Commission's Public Reference Room and on CIPS and RIMs. As indicated in Order No. 637, pipelines are required to implement these new reporting requirements by September 1, 2000.

³ The Revised Instruction Manual (Appendix A) and a summary of the new reporting requirements for the Index of Customers and the revisions to the IOC electronic filing instruction manual (Appendix B) attached to this notice will not be published in the Federal Register.

David P. Boergers,
Secretary.

[FR Doc. 00-16997 Filed 7-5-00; 8:45 am]

BILLING CODE 6717-01-M